DEPARTMENT OF COMMERCE

National Oceanic and Atmospheric Administration

RIN 0648-XV109

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Management Strategy Evaluation (MSE) for EBFM Steering Committee to consider actions affecting New England fisheries in the exclusive economic zone (EEZ). Recommendations from this group will be brought to the full Council for formal consideration and action, if appropriate.

DATES: This meeting will be held on Tuesday, November 5, 2019 at 9 a.m.

ADDRESSES:

Council address: The meeting will be held at the Hampton Inn and Suites, 2 Foxborough Blvd., Foxborough, MA 02035; telephone: (508) 623-2555.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

Based on the recently completed example Fishery Ecosystem Plan (eFEP) for Georges Bank, the Steering Committee will identify the core approach of Ecosystem-Based Fishery Management and develop recommendations on drafting a less technical and publicly digestible document using a science communicator. The will also develop and draft recommendations on how the Council should structure and conduct public information workshops with stakeholders. Other business may be discussed as necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: October 17, 2019.
Tracey L. Thompson,
Acting Deputy Director, Office of Sustainable Fisheries, National Marine Fisheries Service.

[FR Doc. 2019-22985 Filed 10-21-19; 8:45 am]

BILLING CODE 3510-22-P